LIBRARY OF CONGRESS

Copyright Royalty Board

[Docket No 23-CRB-0012-WR (2026-2030)]

Determination of Rates and Terms for Digital Performance of Sound Recordings and Making of Ephemeral Copies To Facilitate Those Performances (Web VI)

Correction

In notice document 2023-28516 appearing on pages 812-814 in the issue of Friday, January 5, 2024, make the following correction:

On page 812 in the second column, after the DATES heading, in the second and third lines, “February 6, 2023” should read “February 5, 2024”.

[FR Doc. C1-2023-28516 Filed 1-22-24; 8:45 am]

BILLING CODE 0099-10-D